DEPARTMENT OF DEFENSE

Office of the Secretary

Defense Science Board

AGENCY: Department of Defense.

ACTION: Notice of Advisory Committee Meeting date change.

SUMMARY: On Friday, March 21, 2003 (68 FR 13906), the Department of Defense announced closed meetings of the Defense Science Board Task Force on Missile Defense, Phase III—Modeling and Simulation. The meeting originally planned for May 1-2, 2003, has been rescheduled to May 12, 2003, at the Institute for Defense Analyses, 1801 N. Beauregard Street, Alexandria, VA.

Dated: March 31, 2003.
Patricia L. Toppings,
Alternate OSD Federal Register Liaison Officer, Department of Defense.

[FR Doc. 03-8213 Filed 4-3-03; 8:45 am]

BILLING CODE 5001-08-M